DEPARTMENT OF TRANSPORTATION

Federal Aviation Administration

14 CFR Part 39

[Docket No. 2000-NM-417-AD]

RIN 2120-AA64

Airworthiness Directives; Dassault Model Falcon 2000 Series Airplanes

AGENCY: Federal Aviation Administration, DOT.

ACTION: Notice of proposed rulemaking (NPRM).

SUMMARY: This document proposes the supersedure of an existing airworthiness directive (AD), applicable to all Dassault Model Falcon 2000 series airplanes, and certain Dassault Model Falcon 900EX and Mystere Falcon 900 series airplanes. That AD currently requires repetitive operational tests of the flap asymmetry detection system to verify proper functioning, and repair, if necessary; repetitive replacement of the inboard flap jackscrews with new or reconditioned jackscrews; and repetitive measurement of the screw/nut play of the outboard and center flap jackscrews to detect discrepancies, and corrective action, if necessary. This action would remove Model 900EX and Mystere Falcon 900 series airplanes from the applicability of the AD. For the Model Falcon 2000 series airplanes, this action would also add certain repetitive measurements, delete certain repetitive measurements, and extend the interval for repetitive replacement of certain jackscrews. This proposal is prompted by issuance of mandatory continuing airworthiness information by a foreign civil airworthiness authority. The actions proposed by this AD are intended to prevent jamming of the flap jackscrews during the approach to landing, which could result in inability to move the flaps or an asymmetric flap condition, and consequent reduced controllability of the airplane.

DATES: Comments must be received by March 18, 2002.

ADDRESSES: Submit comments in triplicate to the Federal Aviation Administration (FAA), Transport Airplane Directorate, ANM-114, Attention: Rules Docket No. 2000-NM-417-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 2000-NM-417-AD” in the subject line and need not be submitted in triplicate. Comments sent via the Internet as attached electronic files must be formatted in Microsoft Word 97 for Windows or ASCII text.

The service information referenced in the proposed rule may be obtained from Dassault Falcon Jet, P.O. Box 2000, South Hackensack, New Jersey 07606. This information may be examined at the FAA, Transport Airplane Directorate, 1601 Lind Avenue, SW., Renton, Washington.

FOR FURTHER INFORMATION CONTACT: Tom Rodriguez, Aerospace Engineer, International Branch, ANM-116, FAA, Transport Airplane Directorate, 1601 Lind Avenue, SW., Renton, Washington, 98055-4056; telephone (425) 227-1137; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NM-417—AD.” The postcard will be date stamped and returned to the commenter.

Availability of NPRMs

Any person may obtain a copy of this NPRM by submitting a request to the FAA, Transport Airplane Directorate, ANM-114, Attention: Rules Docket Number 2000-NM-417-AD, 1601 Lind Avenue, SW., Renton, Washington 98055-4056.

Discussion

On June 29, 1999, the FAA issued AD 99-14-07, amendment 39-11218 (64 FR 36561, July 7, 1999), applicable to all Dassault Model Falcon 2000 series airplanes and to certain Dassault Model Falcon 900EX and Mystere Falcon 900 series airplanes, to require repetitive operational tests of the flap asymmetry detection system to verify proper functioning, and repair, if necessary; repetitive replacement of the inboard flap jackscrews with new jackscrews; and repetitive measurement of the screw/nut play of the outboard and center flap jackscrews to detect discrepancies, and corrective action, if necessary. That action was prompted by information received from the Direction Géenérale de l'Aviation Civile (DGAC), the airworthiness authority for France, that several operators of these airplanes had reported jamming of the inboard flap jackscrew during extension of the flaps while the airplanes were in the approach-to-landing phase of the flight. The requirements of that AD are intended to prevent jamming of the flap jackscrews, which could result in the inability to move the flaps or in an asymmetric flap condition, and consequent reduced controllability of the airplane.

Actions Since Issuance of Previous Rule

Since the issuance of that AD, Dassault has received another report of an incident of jamming of flap jackscrews, which resulted in flap asymmetry during the approach to landing. The incident occurred on a Model Falcon 2000 airplane with only 921 flight cycles, which is less than the replacement interval (of 1,000 flight cycles) for inboard jackscrews that is specified in AD 99-14-07. The flap asymmetry damaged the junction between the two affected flaps and required replacement of the jackscrews on the left-hand and the right-hand inboard flaps. This additional incident has caused the DGAC to issue revised French airworthiness directive 1999-038-008(B) R1, dated September 20, 2000.

The revised French airworthiness directive retains the requirements for repetitive operational tests of the flap asymmetry detection system, and repair, as necessary; repetitive measurement of the screw/nut play of the outboard flap jackscrews, and corrective action, as necessary; and repetitive replacement of the inboard flap inboard jackscrews.

The revised French airworthiness directive also adds a requirement for repetitive measurement of the screw/nut play of the inboard flap jackscrews, deletes the prior requirement for repetitive measurement of the screw/nut play of the center flap jackscrews, and increases the interval for repetitive replacement of the inboard flap outboard jackscrews.

Finally, the revised French airworthiness directive limits the jackscrews subject to these requirements to those having certain part numbers.

Related Rulemaking

The FAA intends to issue a separate Notice of Proposed Rulemaking (NPRM) applicable to certain Dassault Model Falcon 900EX and Mystere Falcon 900 series airplanes. That NPRM proposes requirements which are similar to but not identical with the requirements for Dassault Model Falcon 2000 series airplanes, which are proposed in this NPRM. The issuance of separate NPRMs will help to clarify the requirements for the different models.

FAA's Conclusions

This airplane model is manufactured in France and is type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would supersede AD 99-14-07 to continue to require the following:

• Repetitive operational tests to verify proper functioning of the flap asymmetry detection system, and repair, if necessary;

• Repetitive measurement of the screw/nut play of the outboard flap jackscrews to detect discrepancies, and corrective action, if necessary;

• Repetitive replacement of the inboard flap inboard jackscrews.

The proposed AD would add a requirement for repetitive measurement of the screw/nut play of the inboard flap jackscrews, delete the requirement for repetitive measurement of the screw/nut play of the center flap jackscrews, and increase the interval for repetitive replacement of the inboard flap outboard jackscrews. The proposed AD would also limit the jackscrews subject to these requirements to those having certain part numbers.

Difference Between the Foreign Airworthiness Directive and the Proposed AD

The French airworthiness directive establishes a three-tiered schedule for measurement of nut/screw play of each inboard flap outboard jackscrew, whereas this AD proposes a simpler two-tiered schedule. Both documents specify that the first measurement of nut/screw play is to be made prior to the accumulation of 750 total flight cycles on the inboard flap outboard jackscrew or within 25 flight cycles after the effective date of the AD, whichever occurs later. The French airworthiness directive requires that the second measurement be made prior to the accumulation of 1,000 flight cycles and that subsequent repetitive measurements be made at intervals not to exceed 330 flight hours or 7 months, whichever occurs first. This AD, however, proposes that the second measurement and subsequent repetitive measurements be done at intervals not to exceed 330 flight hours or 7 months, whichever occurs first.

Interim Action

This proposal is considered to be interim action. The manufacturer has advised that it is currently developing a modification that will positively address the unsafe condition which is the subject of this AD. Once this modification is developed, approved, and available, the FAA may consider additional rulemaking.

Cost Impact

There are approximately 45 airplanes of U.S. registry that would be affected by this proposed AD.

The costs of performing actions required by AD 99-14-07 and retained in this proposed AD for the Falcon 2000 series airplanes are described below.

The repetitive operational test of the flap asymmetry detection system takes approximately 1 work hour per airplane to accomplish, at an average labor rate of $60 per work hour. Based on these figures, the cost impact of the repetitive operational test on U.S. operators is estimated to be $2,700, or $60 per airplane, per test cycle.

The measurement of the screw/nut play in the flap jackscrews takes approximately 8 work hours per airplane to accomplish, at an average labor rate of $60 per work hour. Based on these figures, the cost impact of the measurement on U.S. operators is $21,600, or $480 per airplane, per measurement cycle.

The repetitive replacement of jackscrews takes approximately 8 work hours per airplane to accomplish, at an average labor rate of $60 per work hour. New jackscrews cost approximately $21,200 per airplane. However, the proposed rule permits a one-time reconditioning and re-use of jackscrews, which could reduce the cost of parts by 50%. Based on these figures, the cost of the replacement of jackscrews on U.S. operators is between $498,600 and $975,600, or between $11,080 and $21,680 per airplane, per replacement cycle.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11218 (64 FR 36561, July 7, 1999), and by adding a new airworthiness directive (AD), to read as follows:

Dassault Aviation [Formerly Avions Marcel Dassault-Breguet Aviation (AMD/BA)]: Docket 2000-NM-417-AD. Supersedes AD 99-14-07, Amendment 39-11218.

Applicability: All Model Falcon 2000 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (i)(1) of this AD. The request should include an assessment of the effect of the modification, alteration, or repair on the unsafe condition addressed by this AD; and, if the unsafe condition has not been eliminated, the request should include specific proposed actions to address it.

Compliance: Required as indicated, unless accomplished previously.

To prevent jamming of the flap jackscrews during the approach to landing, which could result in the inability to move the flaps or an asymmetric flap condition, and consequent reduced controllability of the airplane, accomplish the following:

Repetitive Operational Test

(a) Within 5 flight cycles after August 11, 1999 (the effective date of AD 99-14-07, amendment 39-11218): Perform an operational test of the flap asymmetry detection system to ensure that the system is functioning correctly, in accordance with the procedures specified in Dassault F2000 Airplane Maintenance Manual (AMM) 27-502, dated November 1995. Prior to further flight, repair any discrepancy detected, in accordance with a method approved by the Manager, International Branch, ANM-116, FAA, Transport Airplane Directorate; or the Direction Générale de l'Aviation Civile (or its delegated agent). Repeat the operational test thereafter at intervals not to exceed 330 flight hours or 7 months, whichever occurs first.

Repetitive Replacement

(b) Prior to the accumulation of 1,000 total flight cycles on the inboard jackscrew located on the inboard flap in the inboard position, or within 25 flight cycles after August 11, 1999, whichever occurs later: Replace each jackscrew having part number (P/N) 5318-1 which is located on the inboard flap in the inboard position, in accordance with Dassault F2000 AMM 27-510, dated November 1995; the replacement jackscrew may be new or may have been reconditioned in accordance with paragraph (c) of this AD. Repeat the replacement of a jackscrew having P/N 5318-1 thereafter at intervals not to exceed 1,000 flight cycles on the jackscrew located on the inboard flap in the inboard position.

(c) A jackscrew having P/N 5318-1 and located on the inboard flap in the inboard position may be replaced by a reconditioned jackscrew having P/N 5318-1, provided that all of the conditions specified in paragraphs (c)(1), (c)(2), and (c)(3) of this AD are met:

(1) The jackscrew has been reconditioned, in accordance with Dassault Service Bulletin AVIAC 5318-27-01.

(2) The jackscrew was located on the inboard flap in the inboard position prior to being reconditioned.

(3) The jackscrew has been reconditioned only one time.

(d) Prior to the accumulation of 2,200 total flight cycles on the middle jackscrew located on the inboard flap in the outboard position, or within 25 flight cycles after August 11, 1999, whichever occurs later: Replace each jackscrew having P/N 5318-1 on the inboard flap in the outboard position, in accordance with Dassault F2000 AMM 27-510, dated November 1995; the replacement jackscrew may be new or may have been reconditioned in accordance with paragraph (e) of this AD. Repeat the replacement of a jackscrew having P/N 5318-1 thereafter at intervals not to exceed 2,200 flight cycles on the jackscrew of the inboard flap in the outboard position.

(e) A jackscrew having part number 5318-1 and located on the inboard flap in the outboard position may be replaced by a reconditioned jackscrew having P/N 5318-1, provided that all of the conditions specified in paragraphs (e)(1), (e)(2), and (e)(3) of this AD are met:

(1) The jackscrew has been reconditioned, in accordance with Dassault Service Bulletin AVIAC 5318-27-01.

(2) The jackscrew was located on the inboard flap in the outboard position prior to being reconditioned.

(3) The jackscrew has been reconditioned only one time.

Repetitive Measurements

(f) Prior to the accumulation of 1,000 total flight cycles on the outboard jackscrews located on the outboard flaps, or within 25 flight cycles after August 11, 1999, whichever occurs later: Measure the screw/nut play of the jackscrew having P/N 1-5319-1 (on the left-wing) and 2-5319-1 (on the right-wing) on the outboard flaps, in accordance with the procedures specified in Dassault F2000 AMM Temporary Revision (TR) 27-504, dated October 1998.

Note 2: Jackscrews having P/N 1-5319-1 or 2-5319-1 may be reconditioned in accordance with Dassault Aviation Service Bulletin AVIAC 5319-27-01. These jackscrews may be reconditioned and reused more than one time.

(1) If the initial measurement is equal to or less than 0.014 inch: Repeat the measurement thereafter at intervals not to exceed 330 flight hours or 7 months, whichever occurs first. If any repetitive measurement detects a nut/screw play greater than 0.014 inch, perform the actions required by paragraph (f)(2) of this AD.

(2) If the initial measurement is greater than 0.014 inch: Perform the actions required by paragraphs (f)(2)(i) and (f)(2)(ii) of this AD.

(i) Prior to further flight, replace the jackscrew with a new or reconditioned jackscrew, in accordance with Dassault F2000 AMM 27-510, dated November 1995.

(ii) Prior to the accumulation of 1,000 total flight cycles on the new or reconditioned jackscrew, perform a follow-on measurement of the screw/nut play in accordance with the procedures specified in Dassault F2000 AMM Temporary Revision (TR) 27-504, dated October 1998.

(iii) If any follow-on measurement required by paragraph (f)(2)(ii) of this AD detects a nut/screw play equal to or less than 0.014 inch, perform the actions required by paragraph (f)(1) of this AD. If any follow-on measurement required by paragraph (f)(2)(ii) of this AD detects a nut/screw play greater than 0.014 inch, perform the actions required by paragraphs (f)(2)(i) and (f)(2)(ii) of this AD.

(g) Prior to the accumulation of 750 total flight cycles on the jackscrew located on the inboard flap in the inboard position, or within 25 flight cycles after the effective date of this AD, whichever occurs later: Measure the screw/nut play of the jackscrew having ­P/N 5318-1, which is located on the inboard flap in the inboard position to detect discrepancies, in accordance with the procedures specified in Dassault F2000 AMM TR 27-504, dated October 1998. If the measurement is greater than 0.014 inch, prior to further flight, replace the discrepant jackscrew with a new or reconditioned jackscrew, in accordance with Dassault F2000 AMM 27-510, dated November 1995.

(h) Prior to the accumulation of 1,000 total flight cycles on the jackscrew located on the inboard flap in the outboard position, or within 25 flight cycles after the effective date of this AD, whichever occurs later: Measure the screw/nut play of the jackscrew having P/N 5318-1, which is located on the inboard flap in the outboard position, in accordance with the procedures specified in Dassault F2000 AMM TR 27-504, dated October 1998.

(1) If the initial measurement is equal to or less than 0.014 inch: Repeat the measurements thereafter at intervals not to exceed 330 flight hours or 7 months, whichever occurs first. If repetitive measurement detects a nut/screw play greater than 0.014 inch, perform the actions required by paragraph (h)(2) of this AD.

(2) If the initial measurement is greater than 0.014 inch: Perform the actions required by paragraphs (h)(2)(i) and (h)(2)(ii) of this AD.

(i) Prior to further flight, replace the jackscrew with a new or reconditioned jackscrew, in accordance with F2000 AMM 27-510, dated November 1995.

(ii) Prior to the accumulation of 1,000 total flight cycles on the new or reconditioned jackscrew, perform a follow-on measurement of the screw/nut play in accordance with the procedures specified in Dassault F2000 AMM Temporary Revision (TR) 27-504, dated October 1998.

(iii) If any follow-on measurement required by paragraph (h)(2)(ii) of this AD detects a nut/screw play equal to or less than 0.014 inch, perform the actions required by paragraph (h)(1) of this AD. If any follow-on measurement required by paragraph (h)(2)(ii) of this AD detects a nut/screw play greater than 0.014 inch, perform the actions required by paragraphs (h)(2)(i) and (h)(2)(ii) of of this AD.

Alternative Methods of Compliance

(i)(1) An alternative method of compliance or adjustment of the compliance time that provides an acceptable level of safety may be used if approved by the Manager, International Branch, ANM-116. Operators shall submit their requests through an appropriate FAA Principal Maintenance Inspector, who may add comments and then send it to the Manager, International Branch, ANM-116.

(2) Alternative methods of compliance, approved previously in accordance with AD 99-14-07, amendment 39-11218, are not considered to be approved as alternative methods of compliance with this AD.

Special Flight Permits

(j) Special flight permits may be issued in accordance with sections 21.197 and 21.199 of the Federal Aviation Regulations (14 CFR 21.197 and 21.199) to operate the airplane to a location where the requirements of this AD can be accomplished.

>

Note 3: The subject of this AD is addressed in French airworthiness directive 1999-038-008(B) R1, dated September 20, 2000.

Issued in Renton, Washington, on February 6, 2002.
Vi L. Lipski,
Manager, Transport Airplane Directorate, Aircraft Certification Service.

[FR Doc. 02-3584 Filed 2-14-02; 8:45 am]

BILLING CODE 4910-13-P